DEPARTMENT OF AGRICULTURE

Animal and Plant Health Inspection Service

[Docket No. APHIS-2019-0034]

Oral Rabies Vaccine Program; Notice of Availability of Decision and Finding of No Significant Impact for the Environmental Assessment

AGENCY: Animal and Plant Health Inspection Service, USDA.

ACTION: Notice of availability.

SUMMARY: We are advising the public that the Animal and Plant Health Inspection Service has prepared a Decision and Finding of No Significant Impact for the final environmental assessment, relative to an oral rabies vaccination program in Maine, New Hampshire, New York, Ohio, Tennessee, Texas, Vermont, Virginia, and West Virginia. Based on our decision and finding of no significant impact, the Animal and Plant Health Inspection has determined that an environmental impact statement need not be prepared.

FOR FURTHER INFORMATION CONTACT: Mr. Richard Chipman, Rabies Program Coordinator, Wildlife Services, APHIS, 59 Chenell Drive, Suite 2, Concord, NH 03301; (603) 223-9623. To obtain copies of the environmental assessment and the finding of no significant impact, contact Ms. Beth Kabert, Environmental Coordinator, Wildlife Services, APHIS, 59 Chenell Drive, Suite 2, Concord, NH 03301; (908) 442-6761, email: beth.e.kabert@usda.gov.

SUPPLEMENTARY INFORMATION: The Wildlife Services (WS) program in the Animal and Plant Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

Since 2011, WS has been conducting field trials to study the immunogenicity and safety of an experimental oral rabies vaccine, a human adenovirus type 5 rabies glycoprotein recombinant vaccine called ONRAB (produced by Artemis Technologies Inc., Guelph, Ontario, Canada). The field trials began in portions of West Virginia, including U.S. Department of Agriculture Forest Service National Forest System lands. Beginning in 2012, WS expanded field trials into portions of New Hampshire, New York, Ohio, Vermont, and new areas of West Virginia, including additional National Forest System lands, in order to further assess the immunogenicity of ONRAB in raccoons and skunks for raccoon rabies virus variant.

On July 9, 2019, we published in the Federal Register (84 FR 32700-32701, Docket No. APHIS-2019-0034) ¹ a notice in which we announced the availability, for public review and comment, of an environmental assessment (EA) that examined the potential environmental impacts associated with the proposed expanded use of ONRAB vaccine-baits throughout the oral rabies vaccination (ORV) distribution zone in Maine, New Hampshire, New York, Ohio, Tennessee, Texas, Vermont, Virginia, and West Virginia.

¹ The EA, Decision/FONSI, and comments we received may be viewed at https://www.regulations.gov/docket?D=APHIS-2019-0034.

We solicited comments on the EA for 30 days ending August 8, 2019. We received 6 comments by that date. The comments were from private individuals supporting and opposing the oral rabies vaccination program. The comments, and APHIS' responses to the comments, are presented in an appendix to the Decision and Finding of No Significant Impact (FONSI).

In the EA, we identified a number of alternatives for consideration. Our proposed alternative recommended the expanded use of ONRAB throughout the ORV zone in Maine, New Hampshire, New York, Ohio, Tennessee, Texas, Vermont, Virginia, and West Virginia. This alternative involves the continued or expanded use of Federal funds by APHIS-WS to purchase ONRAB oral vaccine baits and to participate in the distribution of vaccine baits under the authorities of the appropriate State agencies in selected areas of the States listed above to stop or prevent raccoon, gray fox, and coyote rabies, and to assist with monitoring and surveillance efforts by capturing and releasing or killing target species for the purposes of obtaining biological samples.

In this document, we are advising the public of our decision, as well as availability of a final EA and FONSI, regarding the implementation of the continued and expanded APHIS-WS ORV programs using the ONRAB wildlife rabies vaccine to eliminate or stop the spread of raccoon rabies variant in the eastern United States and prevent the reintroduction of the dog-coyote rabies variants from Mexico in the Southwestern United States, including National Forest System lands, in Maine, New Hampshire, New York, Ohio, Tennessee, Texas, Vermont, Virginia, and West Virginia. The finding, which is based on the proposed alternative in the EA, reflects our determination that the distribution of the ONRAB wildlife rabies vaccine will not have a significant impact on the quality of the human environment.

The final EA and FONSI may be viewed on the APHIS website at https://www.aphis.usda.gov/aphis/ourfocus/wildlifedamage/programs/nepa/ct_nepa_regulations_assessments and on the Regulations.gov website. Copies of the EA and FONSI are also available for public inspection at USDA, Room 1141, South Building, 14th Street and Independence Avenue SW, Washington, DC, between 8 a.m. and 4:30 p.m., Monday through Friday, except holidays. Persons wishing to inspect copies are requested to call ahead at (202) 799-7039 to facilitate entry into the reading room. In addition, copies may be obtained as described under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 19th day of May 2020.
Michael Watson,
Acting Administrator, Animal and Plant Health Inspection Service.

[FR Doc. 2020-11108 Filed 5-21-20; 8:45 am]

BILLING CODE 3410-34-P